DEPARTMENT OF COMMERCE

Submission for OMB Review; Comment Request

The Department of Commerce (DOC) has submitted to the Office of Management and Budget (OMB) the following proposal for collection of information under the clearance procedures of the Paperwork Reduction Act (44 U.S.C. Chapter 35).

Agency: National Telecommunications and Information Administration (NTIA).

Title: Survey of Minority Commercial Broadcast Owners.

Agency Form Number(s): None.

OMB Approval Number: 0660-0017.

Type of Request: Regular submission.

Burden Hours: 250.

Number of Respondents: 500.

Average Hours Per Response: 30 minutes.

Needs and Uses: The Minority Telecommunications Development Program (MTDP), National Telecommunications and Information Administration has developed a survey to collect information for its periodic minority commercial broadcast ownership report. The survey is the principle method of systematically gathering information about the experiences of minority entrepreneurs entering the broadcast industry or expanding their operations. The report will provide a basis for national policies to increase minority participation in broadcasting, as well as Administration initiatives to promote economic opportunity for minority-owned businesses.

Affected Public: Business or other for-profit organizations.

Frequency: On occasion.

Respondent's Obligation: Voluntary.

OMB Desk Officer: Kim Johnson, (202) 395-7232.

Copies of the above information collection proposal can be obtained by contacting Diana Hynek, Departmental Paperwork Clearance Officer, Department of Commerce, Room 6625, 14th and Constitution Avenue NW., Washington, DC 20230, (202) 482-0266 or via the Internet at dHynek@doc.gov.

Written comments and recommendations for the proposed information collection should be sent within 30 days of the publication of this notice to Kimberly Johnson, OMB Desk Officer, Fax number (202) 395-7285 or Kim_A._Johnson@omb.eop.gov.

Dated: December 24, 2003.
Gwellnar Banks,
Management Analyst, Office of the Chief Information Officer.

[FR Doc. 03-32221 Filed 12-30-03; 8:45 am]

BILLING CODE 3510-60-P